DEPARTMENT OF HOMELAND SECURITY

U.S. Immigration and Customs Enforcement, Department of Homeland Security

[OMB Control Number 1653-0046]

Agency Information Collection Activities; Extension, Without Change, of a Currently Approved Collection: Electronic Bonds Online (eBonds) Access

AGENCY: U.S. Immigration and Customs Enforcement, Department of Homeland Security.

ACTION: 30-Day notice.

SUMMARY: In accordance with the Paperwork Reductions Act (PRA) of 1995 the Department of Homeland Security (DHS), U.S. Immigration and Customs Enforcement (ICE) will submit the following Information Collection Request (ICR) to the Office of Management and Budget (OMB) for review and clearance. This information collection was previously published in the Federal Register on July 19, 2022, allowing for a 60-day comment period. ICE received no comments in connection with the 60-day notice. The purpose of this notice is to allow an additional 30 days for public comments.

DATES: Comments are encouraged and will be accepted until October 26, 2022.

ADDRESSES: Written comments and recommendations for the proposed information collection should be sent within 30 days of the publication of this notice to www.reginfo.gov/public/do/PRAMain. Find this particular information collection by selecting “Currently under 30-day Review—Open for Public Comments” or by using the search function.

FOR FURTHER INFORMATION CONTACT: If you have questions related to this collection please contact: Carl Albritton, ERO Bond Management Unit, (202) 732-5918, carl.a.albritton@ice.dhs.gov. (This is not a toll-free number).

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses. ICE is adjusting the burden figures from the 60-day notice based on better estimates of the number of applications received.

Overview of This Information Collection

(1) Type of Information Collection: Extension of a Currently Approved Collection.

(2) Title of the Form/Collection: Electronic Bonds Online (eBonds) Access.

(3) Agency form number, if any, and the applicable component of the Department of Homeland Security sponsoring the collection: I-352SA/I-352RA; U.S. Immigration and Customs Enforcement.

(4) Affected public who will be asked or required to respond, as well as a brief abstract: Primary: Individual or Households, Business or other non-profit. The information collection is necessary for ICE to grant access to eBonds and to notify the public of the duties and responsibilities associated with accessing eBonds. The I-352SA and the I-352RA are the two instruments used to collect the information associated with this collection. The I-352SA is completed by a Surety that currently holds a Certificate of Authority to act as a Surety on Federal bonds and details the requirements for accessing eBonds as well as the documentation, in addition to the I-352SA and I-352RA, which the Surety must submit prior to being granted access to eBonds. The I-352RA provides notification that eBonds is a Federal government computer system and as such users must abide by certain conduct guidelines to access eBonds and the consequences if such guidelines are not followed.

(5) An estimate of the total number of respondents and the time to respond: The estimated total number of respondents for the information collection is 60 and the estimated hour burden per response is 30 minutes (.50 minutes).

(6) An estimate of the total public burden (in hours) associated with the collection: 30 annual burden hours.

Dated: September 21, 2022.
Scott Elmore,
PRA Clearance Officer.

[FR Doc. 2022-20763 Filed 9-23-22; 8:45 am]

BILLING CODE 9111-28-P